DEPARTMENT OF HEALTH AND HUMAN SERVICES

[Document Identifier OS-0990-new]

Agency Information Collection Request: 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Strategy for a Resilient Public Health Supply Chain Paperwork Reduction Act Clearance.

Type of Collection: New Father Generic ICR.

OMB No. 0990-new—Administration for Strategic Preparedness and Response—Office of Strategy, Policy, Planning, and Requirements.

Abstract: The Office of Strategy, Policy, Planning, and Requirements, within the Department of Health and Human Services (HHS), Administration for Strategic Preparedness and Response (ASPR), is seeking OMB approval of a new Generic clearance. In July 2021, the White House published the National Strategy for a Resilient Public Health Supply Chain (National Strategy), which provides a strategic approach to design, build, and sustain a long-term capability in the United States to manufacture supplies for future pandemics and biological threats. HHS is working with the White House and across the federal interagency to launch a multiyear implementation of the National Strategy involving the identification and coordination of measurable activities across the U.S. government, State, Local, Tribal, and Territorial (SLTT) jurisdictions, and the private sector.

HHS is requesting a 3-year PRA generic clearance for purposes of implementation to engage with SLTTs, trade groups, mixed cross-sector audiences, non-governmental organizations, manufacturers, academia, healthcare providers and facilities, local communities, and other partners to: gain a better understanding of the public health supply chain; develop future strategic goals and recommendations for building immediate and long-term resilience through increased visibility, agility, and robustness in the public health supply chain to prepare for and mitigate future public health emergencies; and to ensure ASPR, HHS, and the broader U.S. government have current data and information to inform program and policy decision-making.

Cross-sectoral engagement underpins many of the interdependent implementation activities. For example, one such activity involves information collection from SLTT partners on facility, local, and state stockpiling plans to ensure coordinated plans are in place for a future public health emergency. Other potential engagements include, but are not limited to questionnaires, stakeholder meetings, requests for information, town hall meetings, and workshops. Stakeholder engagement frequency will vary depending on the type of stakeholder and the information collection needs. Therefore, some engagements may only occur once, while others may require a series of recurring meetings.

Estimated Annualized Burden Table Over Three Years
Type of respondent | Number of respondents | Number responses per respondent | Average burden per response (in hours) | Total burden hours
Private sector companies, SLTT, Trade groups and associations, NGOs, Manufacturers, distributors, Academia, Healthcare delivery providers/facilities, Public, USG Supply chain inventory holders, Biopharmaceutical industry, Biotechnology development companies, Communities, GPOs, standards development organizations, logistics, third party contractors, purchasing organizations, professional associations/societies, Mixed cross-sector audience, labor unions, workforce training providers, organizations, state and local workforce boards | 32800 (Form: Informed consent) 32800 (Form: Demographics standardized questionnaire with decision logic allowing some questions to be omitted) | 1 1 | 5/60 15/60 | 2734 8200
| 6000(Form: Cognitive questionnaire) | 1 | 8 | 48000
| 6600(Form: Formative interviews and focus groups) | 2 | 4 | 52800
| 10200 (Form: Town halls and public meetings) | 2 | 8 | 163200
| 1000 (Form: Supply chain questionnaires) | 156 | 30/60 | 78000
| 6000 (Form: Knowledge-based questionnaires) | 1 | 30/60 | 3000
| 3000 (Form: Interviews and focus groups) | 1 | 1 | 3000
Total |  |  |  | 358,934

Sherrette A. Funn,
Paperwork Reduction Act Reports Clearance Officer, Office of the Secretary.

[FR Doc. 2022-27262 Filed 12-15-22; 8:45 am]

BILLING CODE 4150-37-P